DEPARTMENT OF COMMERCE

National Institute of Standards and Technology

National Fire Protection Association (NFPA): Request for Comments on NFPA's Codes® and Standards

AGENCY: National Institute of Standards and Technology, Commerce.

ACTION: Notice.

SUMMARY: Since 1896, the National Fire Protection Association (NFPA) has accomplished its mission by advocating scientifically based consensus codes and standards, research, and education for safety related issues. NFPA's National Fire Codes®, which holds over 270 documents, are administered by more than 225 Technical Committees comprised of approximately 7,000 volunteers and are adopted and used throughout the world. NFPA is a nonprofit membership organization with approximately 80,000 members from over 70 nations, all working together to fulfill the Association's mission.

The NFPA process provides ample opportunity for public participation in the development of its codes and standards. All NFPA codes and standards are revised and updated every three to five years in Revision Cycles that begin twice each year and take approximately two years to complete. Each Revision Cycle proceeds according to a published schedule that includes final dates for all major events in the process. The process contains five basic steps that are followed both for developing new documents as well as revising existing documents. These steps are: Calling for Proposals; Publishing the Proposals in the Report on Proposals (ROP); Calling for Comments on the Committee's disposition of the Proposals and these Comments are published in the Report on Comments (ROC); having a Technical Report Session at the NFPA Annual Meeting; and finally, the Standards Council Consideration and Issuance of documents.

Note: Under new rules effective Fall 2005, anyone wishing to make Amending Motions on the Technical Committee Reports (ROP and ROC) must signal their intention by submitting a Notice of Intent to Make a Motion by the Deadline of October 17, 2008. Certified motions will be posted by November 14, 2008. Documents that receive notice of proper Amending Motions (Certified Amending Motions) will be presented for action at the annual June 2009 Association Technical Meeting. Documents that receive no motions will be forwarded directly to the Standards Council for action on issuance.

For more information on these new rules and for up-to-date information on schedules and deadlines for processing NFPA Documents, check the NFPA Web site at http://www.nfpa.org or contact the NFPA Codes and Standards Administration.

The purpose of this notice is to request comments on the technical reports that will be published in the NFPA's 2008 Fall Revision Cycle. The publication of this notice by the National Institute of Standards and Technology (NIST) on behalf of NFPA is being undertaken as a public service; NIST does not necessarily endorse, approve, or recommend any of the standards referenced in the notice.

DATES: Eighteen reports are published in the 2008 Fall Revision Cycle Report on Proposals and will be available on December 21, 2007. Comments received on or before February 29, 2008 will be considered by the respective NFPA Committees before final action is taken on the proposals.

ADDRESSES: The 2008 Fall Revision Cycle Report on Proposals is available and downloadable from NFPA's Web site— http://www.nfpa.org or by requesting a copy from the NFPA, Fulfillment Center, 11 Tracy Drive, Avon, Massachusetts 02322. Comments on the report should be submitted to Milosh Puchovsky, Secretary, Standards Council, NFPA, 1 Batterymarch Park, Quincy, Massachusetts 02269-7471.

FOR FURTHER INFORMATION CONTACT: Milosh Puchovsky, Secretary, Standards Council, NFPA, 1 Batterymarch Park, Quincy, Massachusetts 02269-7471, (617) 770-3000.

SUPPLEMENTARY INFORMATION:

Background

The National Fire Protection Association (NFPA) develops building, fire, and electrical safety codes and standards. Federal agencies frequently use these codes and standards as the basis for developing Federal regulations concerning safety. Often, the Office of the Federal Register approves the incorporation by reference of these standards under 5 U.S.C. 552(a) and 1 CFR Part 51.

Request for Comments

Interested persons may participate in these revisions by submitting written data, views, or arguments to Milosh Puchovsky, Secretary, Standards Council, NFPA, 1 Batterymarch Park, Quincy, Massachusetts 02269-7471. Commenters may use the forms provided for comments in the Reports on Proposals. Each person submitting a comment should include his or her name and address, identify the notice, and give reasons for any recommendations. Comments received on or before February 29, 2008 for the 2008 Fall Revision Cycle Report on Proposals will be considered by the NFPA before final action is taken on the proposals.

Copies of all written comments received and the disposition of those comments by the NFPA committees will be published as the 2008 Fall Revision Cycle Report on Comments by August 22, 2008. A copy of the Report on Comments will be sent automatically to each commenter.

2008 Fall Revision Cycle Report on Proposals
[P=Partial revision; W=Withdrawal; R=Reconfirmation; N=New; C=Complete Revision]
NFPA 36 Standard for Solvent Extraction Plants | P
NFPA 52 Vehicular Fuel Systems Code | P
NFPA 53 “Recommended Practice on Materials, Equipment and Systems Used in Oxygen-Enriched Atmospheres” | P
NFPA 55 “Standard for the Storage, Use, and Handling of Compressed Gases and Cryogenic Fluids in Portable and Stationary Containers, Cylinders, and Tanks” | P
NFPA 82 Standard on Incinerators and Waste and Linen Handling Systems and Equipment | P
NFPA 150 Standard on Fire and Life Safety in Animal Housing Facilities | P
NFPA 170 Standard for Fire Safety and Emergency Symbols | P
NFPA 211 “Standard for Chimneys, Fireplaces, Vents, and Solid Fuel-Burning Appliances” | P
NFPA 225 Model Manufactured Home Installation Standard | C
NFPA 241 “Standard for Safeguarding Construction, Alteration, and Demolition Operations” | P
NFPA 271 Standard Method of Test for Heat and Visible Smoke Release Rates for Materials and Products Using an Oxygen Consumption Calorimeter | P
NFPA 501 Standard on Manufactured Housing | C
NFPA 501A “Standard for Fire Safety Criteria for Manufactured Home Installations, Sites, and Communities” | C
NFPA 909 “Code for the Protection of Cultural Resources Properties—Museums, Libraries, and Places of Worship” | P
NFPA 1670 Standard on Operations and Training for Technical Search and Rescue Incidents | P
NFPA 1963 Standard for Fire Hose Connections | P
NFPA 1965 Standard for Fire Hose Appliances | P
NFPA 1975 Standard on Station/Work Uniforms for Fire and Emergency Services | C

Dated: October 17, 2007.
Richard F. Kayser,
Acting Deputy Director.

[FR Doc. E7-20843 Filed 10-22-07; 8:45 am]

BILLING CODE 3510-13-P